DEPARTMENT OF LABOR

Occupational Safety and Health Administration

Online Outreach Training Program, FY 2014

AGENCY: Occupational Safety and Health Administration (OSHA), Labor.

ACTION: Notice of Competition and Request for Proposals (RFP) for Online OSHA Outreach Training Program Providers.

SUMMARY: This notice announces, in abstract format, a request for proposals to deliver 10-hour and 30-hour Outreach Training Program courses, on behalf of OSHA, in the construction industry, general industry, maritime industry, and targeted training for young workers, in an online format.

DATES: All proposals received by December 12, 2014, 4:00 p.m. CT, the application deadline, will be considered by OSHA. Proposals must be in writing, and meet the specified requirements. Questions regarding this procurement may be made to the OSHA Directorate of Training and Education, U.S. Department of Labor, 2020 S. Arlington Heights Road, Arlington Heights, IL 60005-4102, Attention: Dr. Henry Payne, Administrative Officer. Only written inquiries will be answered.

ADDRESSES: Please submit ONE (1) signed original and THREE (3) copies of the proposal, plus ONE (1) CD-ROM or USB Flash Drive of the complete proposal identical to the hard copies, on or before December 12, 2014, 4:00 p.m. CT to: Henry Payne, Ph.D., Administrative Officer, Directorate of Training and Education, U.S. Department of Labor, OSHA, 2020 S Arlington Heights Rd, Arlington Heights, IL 60005-4102.

FOR FURTHER INFORMATION CONTACT: Questions regarding this RFP may be submitted in writing by November 26, 2014, 11:59 p.m. CT to the Administrative Officer, Dr. Henry Payne. Questions received after November 26, 2014, 11:59 p.m. CT will not receive a response. Responses to timely written questions will be posted on the OSHA Web site, http://www.osha.gov/dte/outreach/ootpp.html. To obtain further information on the OSHA Outreach Training Program, visit the OSHA Web site at, http://www.osha.gov/dte/outreach/index,html.

SUPPLEMENTARY INFORMATION: The complete version of this announcement has been published on the OSHA Web site (http://www.osha.gov/dte/outreach/ootpp.html). The contractor(s) selected for award will be authorized to provide online Outreach Training Program courses to members of the public. These contracts will not involve any compensation or reimbursement from the Government. The contractor(s) may charge a fee to its students. The Government may assess a fee from the contractor(s) to cover the costs of course-completion cards and other administrative expenses.

Although contracts resulting from the Solicitation will not be funded with appropriated funds, and the Federal Acquisition Regulation will not apply, the solicitation document utilizes a FAR-type format for convenience, and incorporates provisions and clauses adapted from those found in the FAR. It is anticipated that one or more awards will be made from this solicitation. OSHA may make up to two awards in each of the four identified categories. This requirement is for a base year with options for four (4) successive one-year periods.

Authority and Signature

David Michaels, Ph.D., MPH, Assistant Secretary of Labor for Occupational Safety and Health, directed the preparation of this notice. The authority for this notice is Section 21 of the Occupational Safety and Health Act of 1970, (29 U.S.C. 670), Public Law 111-117, and Public Law 112-10, and Secretary of Labor's Order No. 1-2012 (77 FR 3912).

Signed at Washington, DC, on October 1, 2014.
David Michaels,
Assistant Secretary of Labor for Occupational Safety and Health.

[FR Doc. 2014-23974 Filed 10-7-14; 8:45 am]

BILLING CODE 4510-26-P